DEPARTMENT OF COMMERCE

Foreign-Trade Zones Board

[S-226-2024]

Approval of Subzone Status; Century Arms, Inc.; Georgia, Vermont

On December 26, 2024, the Executive Secretary of the Foreign-Trade Zones (FTZ) Board docketed an application submitted by the Greater Burlington Industrial Corporation, grantee of FTZ 55, requesting subzone status subject to the existing activation limit of FTZ 55, on behalf of Century Arms, Inc. in Georgia, Vermont.

The application was processed in accordance with the FTZ Act and Regulations, including notice in the Federal Register inviting public comment (90 FR 70, January 2, 2025). The FTZ staff examiner reviewed the application and determined that it meets the criteria for approval. Pursuant to the authority delegated to the FTZ Board Executive Secretary (15 CFR 400.36(f)), the application to establish Subzone 55C was approved on April 17, 2025, subject to the FTZ Act and the Board's regulations, including section 400.13, and further subject to FTZ 55's ten-acre activation limit.

Dated: April 17, 2025.
Elizabeth Whiteman,
Executive Secretary.

[FR Doc. 2025-06929 Filed 4-22-25; 8:45 am]

BILLING CODE 3510-DS-P